SECURITIES AND EXCHANGE COMMISSION

Issuer Delisting; Notice of Application of Koppers Inc. (Formerly Known as Koppers Industries, Inc.) To Withdraw Its 9⅞% Senior Notes (Due 2007) From Listing and Registration on the New York Stock Exchange, Inc. File No. 1-12716

March 11, 2003.

Koppers Inc. (formerly known as Koppers Industries, Inc.), a Pennsylvania corporation (“Issuer”), has filed an application with the Securities and Exchange Commission (“Commission”), pursuant to section 12(d) of the Securities Exchange Act of 1934 (“Act”)¹ and rule 12d2-2(d) thereunder,² to withdraw its 9⅞% Senior Notes (due 2007) (“Security”), from listing and registration on the New York Stock Exchange, Inc. (“NYSE” or “Exchange”).

¹ 15 U.S.C. 78l(d).

² 17 CFR 240.12d2-2(d).

In making its decision to withdraw the Issuer's Security from the Exchange, the Issuer states that: (i) As of January 28, 2003, there were approximately 18 holders of the Security, including holders of record and those firms that hold the Security through Cede & Co.; (ii) based upon the covenants contained in the indenture under which the Security was issued, the Issuer will continue to provide to the holders of the Security information as if the Issuer were required by law to file 1934 Act reports; (iii) the Issuer is not obligated under the indenture under which the Security was issued, nor any other documents, to maintain a listing of the Security on the NYSE or any other exchange; (iv) the Issuer believes that the burden and expense of complying with requirements of the 1934 Act, particularly in view of certain of the enhanced obligations imposed by the Sarbanes-Oxley Act of 2002, upon companies whose securities are listed on a national securities exchange, are disproportionate given the small number of holders of the Security; and (v) holders of the Security will accordingly benefit, to the extent that any cost savings realized by delisting improves the cash flow and creditworthiness of the Issuer. The Issuer believes that the delisting of the Security should not have a material impact on the holders of the Security.

The Issuer stated in its application that it has met the requirements of the NYSE rules governing an issuer's voluntary withdrawal of a security from listing and registration. The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before April 3, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-6242 Filed 3-14-03; 8:45 am]

BILLING CODE 8010-01-P